DEPARTMENT OF THE INTERIOR

National Park Service

Notice of Inventory Completion: Saint Martin's Waynick Museum, Lacey, WA; Correction

AGENCY: National Park Service, Interior.

ACTION: Notice; correction

Notice is here given in accordance with the Native American Graves Protection and Repatriation Act (NAGPRA), 25 U.S.C. 3003 (5), of the completion of an inventory of human remains in the possession of the Saint Martin's Waynick Museum (Waynick Museum), Lacey, WA. The human remains were removed from Vashon Island, King County, WA.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

This notice replaces the Notice of Inventory Completion published in the Federal Register on February 22, 2006 (FR Doc. E6-2448, page 9154) in order to correct the number of human remains and collection history from a minimum of two individuals removed from one site to a minimum of six individuals removed from six sites.

A detailed assessment of the human remains was made by Waynick Museum professional staff in consultation with representatives of the Puyallup Tribe of the Puyallup Reservation, Washington.

In 2003, the Waynick Museum found bones in the museum collection. In April 2004, the Puyallup Tribe of the Puyallup Reservation, Washington notified the Waynick Museum of their belief that human remains were in the possession of the Waynick Museum. In May 2004, the bones were determined to be Native American human remains representing two individuals that were culturally affiliated with the Puyallup Tribe of the Puyallup Reservation, Washington. A Notice of Inventory Completion was published in the Federal Register on February 22, 2006.

Additional human remains were subsequently found in a storage room in the monastery. Dr. Stephen Fulton, Associate Professor of Biology at Saint Martin's University, assisted in determining the minimum number of individuals.

In 1938, human remains representing a minimum of one individual were removed from a cist burial mound on Vashon-Maury Island, King County, WA, by Lynne “Black Eagle” Waynick. Mr. Waynick documented the removal of the cist burial and recorded it in his report, “[a]mong the Clam Shell Mounds and Ancient Camp Sites of Vashon Island.” In the early 1960s, the human remains were donated to Saint Martin's Abbey in Lacey, WA, as part of the original collection for the museum named after Mr. Waynick, known as Saint Martin's Waynick Museum. In 1996, the cranium of the individual was stored in a different building and was not reunited with the rest of the human remains until 2005. The human remains were incorrectly identified as two individuals in the February 22, 2006 Notice of Inventory Completion. No known individual was identified. No associated funerary objects are present.

At an unknown date between 1920 and 1970, human remains representing a minimum of one individual were removed from a shell burial near Burton on Vashon Island, King County, WA, most likely by Lynne “Black Eagle” Waynick. An index card found with the human remains states: ”...skull found in a shell burial near Burton Wash.” The human remains are believed to have been donated as part of the original collection of the Waynick Museum in the 1960s. In 1996, the human remains were stored in a different building and were not identified until 2005. Based on storage, museum documentation, excavator and museum history, the human remains are believed to be a Native American individual removed from Vashon Island. No known individual was identified. No associated funerary objects are present.

At an unknown date between 1920 and 1970, human remains representing a minimum of two individuals were probably removed from Vashon Island, King County, WA. Mr. Lynn “Black Eagle” Waynick may have been the excavator. The human remains were probably part of the original collection of the Waynick Museum and would have been in the possession of the museum since that time. Mr. Waynick was a resident of Vashon Island for many years and documented the excavation of another Native American individual from Vashon Island. The human remains were stored in a cardboard box in the Saint Martin's Abbey monastery building itself, but outside of the space designated for the museum's storage. Museum documentation did not provide the location of the human remains and they were found in collections in 2005. Based on storage, excavator and museum history, the human remains are probably Native American and removed from Vashon Island. No known individuals were identified. No associated funerary objects are present.

At an unknown date between 1920 and 1970, human remains representing a minimum of two individuals were removed from most likely Vashon Island, King County, WA, probably by Lynn “Black Eagle” Waynick. The human remains were probably part of the original collection of the Waynick Museum and would have been in the possession of the museum since that time. Mr. Waynick was a resident of Vashon Island for many years and documented the excavation of another Native American individual from Vashon Island. The human remains were found in collections in 2003 and identified as human remains in 2004. The human remains were stored in a cardboard box commingled with other bones in Waynick Museum storage with no accession number or accompanying information; however, they were found in a box containing other Native American human remains, including the individual documented as being removed from the cist burial. Based on storage, excavator and museum history, the human remains are probably Native American and removed from Vashon Island. No known individuals were identified. No associated funerary objects are present.

Archeological and historical documentation identifies Vashon Island as a site of several Puyallup villages at or before the signing of the Medicine Creek Treaty of 1854. The Vashon-Maury Island is located in the historically documented traditional territory of the Puyallup tribe. Based on museum documentation, geographic location, storage, excavator and museum history, all individuals described in this Notice of Inventory Completion are believed to be Native American and culturally affiliated to the Puyallup. Descendants of the Puyallup are members of the Puyallup Tribe of the Puyallup Reservation, Washington.

Officials of Saint Martin's Waynick Museum have determined that, pursuant to 25 U.S.C. 3001 (9-10), the human remains described above represent the physical remains of six individuals of Native American ancestry. Officials of Saint Martin's Waynick Museum also have determined that, pursuant to 25 U.S.C. 3001 (2), there is a relationship of shared group identity that can be reasonably traced between the Native American human remains and the Puyallup Tribe of the Puyallup Reservation, Washington.

Representatives of any other Indian tribe that believes itself to be culturally affiliated with the human remains should contact Brother Luke Devine, Saint Martin's Waynick Museum, 5300 Pacific Ave. SE, Lacey, WA 98503, (360) 438- 4458, before November 13, 2006. Repatriation of the human remains to the Puyallup Tribe of the Puyallup Reservation, Washington may proceed after that date if no additional claimants come forward.

Saint Martin's Waynick Museum is responsible for notifying the Puyallup Tribe of the Puyallup Reservation, Washington that this notice has been published.

Dated: August 31, 2006
Sherry Hutt,
Manager, National NAGPRA Program.

[FR Doc. E6-16920 Filed 10-11-06; 8:45 am]

BILLING CODE 4312-50-S